DEPARTMENT OF COMMERCE

National Oceanic and Atmospheric Administration

Evaluation of American Samoa Coastal Management Program; Notice of Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management, will hold an in-person public meeting to solicit input on the performance evaluation of the American Samoa Coastal Management Program. NOAA also invites the public to submit written comments.

DATES: NOAA will hold an in-person public meeting on Tuesday, February 28, 2023, at 9 a.m. Samoa Standard Time. NOAA will consider all relevant written comments received by Friday, March 10, 2023.

ADDRESSES: Comments may be submitted by one of the following methods:

Email: Send written comments to Ralph Cantral, Evaluator, NOAA Office for Coastal Management, at Ralph.Cantral@noaa.gov.

In-Person Public Meeting: Provide oral comments during the in-person public meeting on Tuesday, February 28, 2023, at 9 a.m. Samoa Standard Time at the Governor H. Rex Lee Auditorium, Utulei, American Samoa 96799.

Written comments NOAA receives are considered part of the public record, and the entirety of the comment, including the name of the commenter, email address, attachments, and other supporting materials, will be publicly accessible. Sensitive personally identifiable information, such as account numbers and Social Security numbers should not be included with the comment. Comments that are not related to the performance evaluation of the American Samoa Coastal Management Program or that contain profanity, vulgarity, threats, or other inappropriate language will not be considered.

FOR FURTHER INFORMATION CONTACT: Ralph Cantral, Evaluator, NOAA Office for Coastal Management, by email at Ralph.Cantral@noaa.gov or by phone at (843) 474-1357. Copies of the previous evaluation findings and Assessment and Strategies may be viewed and downloaded at http://coast.noaa.gov/czm/evaluations/. A copy of the evaluation notification letter and most recent progress report may be obtained upon request by contacting Ralph Cantral.

SUPPLEMENTARY INFORMATION: Section 312 of the Coastal Zone Management Act (CZMA) requires NOAA to conduct periodic evaluations of federally approved coastal management programs. The evaluation process includes holding one or more public meetings, considering public comments, and consulting with interested Federal, State, and local agencies and members of the public. During the evaluation, NOAA will consider the extent to which the Territory of American Samoa has met the national objectives, adhered to the management program approved by the U.S. Secretary of Commerce, and adhered to the terms of financial assistance under the CZMA. When the evaluation is complete, NOAA's Office for Coastal Management will place a notice in the Federal Register announcing the availability of the final evaluation findings.

Keelin Kuipers,
Deputy Director, Office for Coastal Management, National Ocean Service, National Oceanic and Atmospheric Administration.

[FR Doc. 2023-00075 Filed 1-5-23; 8:45 am]

BILLING CODE 3510-JE-P